DEPARTMENT OF EDUCATION

[CFDA No. 84.200A]

Office of Postsecondary Education; Graduate Assistance in Areas of National Need (GAANN) Program; Notice Inviting Applications for New Awards for Fiscal Year (FY) 2004

Purpose of Program: GAANN provides fellowships in areas of national need to assist graduate students with excellent academic records who demonstrate financial need and plan to pursue the highest degree available in their courses of study.

Eligible Applicants: Academic departments of institutions of higher education that meet the requirements in the program regulations at 34 CFR 648.2.

Applications Available: October 1, 2003.

Deadline for Transmittal of Applications: November 7, 2003.

Deadline for Intergovernmental Review: January 7, 2004.

Estimated Available Funds: The Administration has requested $10,015,000 for the GAANN Program new awards for FY 2004. The actual level of funding, if any, depends on final congressional action. However, we are inviting applications to allow enough time to complete the grant process, if Congress appropriates funds for this program.

Estimated Range of Awards: $124,668-$750,000.

Estimated Average Size of Awards: $208,645.

Estimated Number of Awards: 48.

Note: The Department is not bound by any estimates in this notice.

SUPPLEMENTARY INFORMATION: Stipend Level: The Secretary will determine the GAANN fellowship stipend for the academic year 2004-2005 based on the level of support provided by the National Science Foundation (NSF) graduate fellowships as of February 1, 2004, except that the amount will be adjusted as necessary so as not to exceed the GAANN fellow's demonstrated level of financial need.

Institutional Payment: The Secretary will determine the institutional payment for the academic year 2004-2005 by adjusting the previous academic year institutional payment, which is $11,296 per fellow, by the U.S. Department of Labor's Consumer Price Index for the 2003 calendar year.

Project Period: Up to 36 months.

Page Limit: The application narrative (Part III of the application) is where you, the applicant, address the selection criteria that reviewers use to evaluate your application. You must limit Part III as follows:

Applications in a single discipline must be limited to no more than 40 pages.

Interdisciplinary applications, as defined below, must be limited to no more than 60 pages.

Multidisciplinary applications, as defined below, must be limited to no more than 40 pages for each academic discipline included in the proposal.

All applications (single discipline, Interdisciplinary and Multidisciplinary) must apply the following standards:

• A “page” is 8.5″ x 11″, on one side only, with 1″ margins at the top, bottom, and both sides.

• Double space (no more than three lines per vertical inch) all text in the application narrative, including titles, headings, footnotes, quotations, references, and captions. However, you may single space all text in charts, tables, figures, and graphs. Charts, tables, figures, and graphs presented in the application narrative do count toward the page limit.

• Use a font that is either 12-point or larger or no smaller than 10 pitch (character per inch).

• Appendices are limited to the following: Curriculum vitae—no more than two pages per faculty member; a course listing; letters of support; bibliography; and one additional optional appendix relevant to the support of the proposal, not to exceed five pages.

The page limit does not apply to Part I, the cover sheet; Part II, the budget section; the assurances and certifications; the one-page abstract; or the appendices. However, you must include all of the application narrative in Part III.

We will reject your application if—

• You apply these standards and exceed the page limit; or

• You apply other standards and exceed the equivalent of the page limit.

Note: Interdisciplinary applications request funding for a single proposed program of study that involves academic fields in two or more disciplines.

Multidisciplinary applications request funding for two or more proposed programs of study that are independent and unrelated to one another. Applicants must abide by these definitions of “Interdisciplinary” and “Multidisciplinary” when applying the page limit standards.

Applicable Regulations: (a) The Education Department General Administrative Regulations (EDGAR) in 34 CFR parts 74, 75, 77, 79, 82, 85, 86, 97, 98, and 99; and (b) The regulations for this program in 34 CFR part 648.

Priority

Absolute Priority: This competition focuses on projects designed to meet a priority in the regulations for this program (34 CFR 648.33).

Areas of National Need: A project must provide fellowships in one or more of the following areas of national need: biology, chemistry, computer and information sciences, engineering, geological and related sciences, mathematics, and physics.

Under 34 CFR 75.105(c)(3) we consider only applications that meet the priority.

Performance Measures

Under the Government Performance and Results Act (GPRA), two measures have been developed for evaluating the overall effectiveness of the GAANN Program: (1) To increase the percentage of GAANN fellows who obtain a doctorate degree in an area of national need; and (2) To increase the percentage of GAANN fellows from traditionally underrepresented populations.

All grantees will be expected to submit an annual performance report documenting their success in addressing these performance measures.

Application Procedures

The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

We are requiring that applications for grants for FY 2004 under the GAANN program be submitted electronically using e-Application available through the Department's e-GRANTS system. The e-GRANTS system is accessible through its portal page at: http://e-grants.ed.gov.

An applicant who is unable to submit an application through the e-GRANTS system may submit a written request for a waiver of the electronic submission requirement. In the request, the applicant should explain the reason or reasons that prevent the applicant from using the Internet to submit the application. The request should be addressed to: Brandy Silverman, U.S. Department of Education, 1990 K St., NW., room 6018, Washington, DC 20006-8521. Please submit your request no later than two weeks before the application deadline date.

If, within two weeks of the application deadline date, an applicant is unable to submit an application electronically, the applicant must submit a paper application by the application deadline date in accordance with the transmittal instructions in the application package. The paper application must include a written request for a waiver documenting the reasons that prevented the applicant from using the Internet to submit the application.

Pilot Project for Electronic Submission of Applications

In FY 2004, the Department is continuing to expand its pilot project for electronic submission of applications to include additional formula grant programs and additional discretionary grant competitions. The GAANN program-CFDA 84.200A is one of the programs included in the pilot project. If you are an applicant under GAANN, you must submit your application to us in electronic format or receive a waiver.

The pilot project involves the use of the Electronic Grant Application System (e-Application). Users of e-Application will be entering data on-line while completing their applications. You may not e-mail a soft copy of a grant application to us. The data you enter on-line will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you submit a grant application in electronic format, nor will we penalize you if you submit an application in paper format.

• You must submit all documents electronically, including the Application for Federal Education Assistance (ED 424), Budget Information Sheet, and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign the ED 424.

3. Place the PR/Award number in the upper right hand corner of the hard copy signature page of the ED 424.

4. Fax the signed ED 424 to the Application Control Center at (202) 260-1349.

• We may request that you give us original signatures on other forms at a later date.

• Application Deadline Date Extension in Case of System Unavailability: If you are prevented from submitting your application on the application deadline date because the e-Application system is unavailable, we will grant you an extension of one business day in order to transmit your application electronically, by mail, or by hand delivery. For us to grant this extension—

1. You must be a registered user of e-Application and have initiated an e-Application for this competition; and

2. (a) The e-Application system must be unavailable for 60 minutes or more between the hours of 8:30 a.m. and 3:30 p.m., Washington, DC time, on the application deadline date; or

(b) The e-Application system must be unavailable for any period of time during the last hour of operation (that is, for any period of time between 3:30 and 4:30 p.m., Washington, DC time) on the application deadline date.

The Department must acknowledge and confirm these periods of unavailability before granting you an extension. To request this extension or to confirm the Department's acknowledgement of any system unavailability, you may contact either: (1) The person listed elsewhere in this notice under FOR FURTHER INFORMATION CONTACT or (2) the e-GRANTS help desk at 1-888-336-8930.

You may access the electronic grant application for GAANN at: http://e-grants.ed.gov.

FOR FURTHER INFORMATION CONTACT: Brandy Silverman, U.S. Department of Education, Graduate Assistance in Areas of National Need Program, 1990 K Street NW., Suite 6000, Washington, DC 20006-8521. Telephone: (202) 502-7886 or via Internet: ope_gaann@ed.gov.

If you use a telecommunication device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister

To use PDF you must have adobe Acrobat Reader, which is available free at this site. If you have questions about using PDF, call the U.S. Government Printing Office (GPO), toll free, at 1-888-293-6498; or in the Washington, DC, area at (202) 512-1530.

You may also view this document in PDF at the following site: http://www.ed.gov/hep/iegps/gaann.html.

Note: The official version of this document is the document published in the Federal Register. Free Internet access to the official edition of the Federal Register and the Code of Federal Regulations is available on GPO Access at: http://www.access.gpo.gov/nara/index.html.

Program Authority: 20 U.S.C. 1135.

Dated: August 7, 2003.
Sally L. Stroup,
Assistant Secretary, Office of Postsecondary Education.

[FR Doc. 03-20520 Filed 8-11-03; 8:45 am]

BILLING CODE 4000-01-P